DEPARTMENT OF DEFENSE

GENERAL SERVICES ADMINISTRATION

NATIONAL AERONAUTICS AND SPACE ADMINISTRATION

[OMB Control No. 9000-0097; Docket 2012-0076; Sequence 22]

Federal Acquisition Regulation; Submission for OMB Review; Taxpayer Identification Number Information

AGENCY: Department of Defense (DOD), General Services Administration (GSA), and National Aeronautics and Space Administration (NASA).

ACTION: Notice of request for public comments regarding an extension to an existing OMB clearance.

SUMMARY: Under the provisions of the Paperwork Reduction Act, the Regulatory Secretariat will be submitting to the Office of Management and Budget (OMB) a request to review and approve an extension of a previously approved information collection requirement concerning Taxpayer Identification Number Information. A notice was published in the Federal Register at 77 FR 51782, on August 27, 2012. No comments were received.

DATES: Submit comments on or before April 25, 2013.

ADDRESSES: Submit comments identified by Information Collection 9000-0097, Taxpayer Identification Number Information, by any of the following methods:

• Regulations.gov: http://www.regulations.gov.

Submit comments via the Federal eRulemaking portal by searching the OMB control number. Select the link “Submit a Comment” that corresponds with “Information Collection 9000-0097, Taxpayer Identification Number Information”. Follow the instructions provided at the “Submit a Comment” screen. Please include your name, company name (if any), and “Information Collection 9000-0097, Taxpayer Identification Number Information” on your attached document.

• Fax: 202-501-4067.

• Mail: General Services Administration, Regulatory Secretariat (MVCB), 1275 First Street NE., Washington, DC 20417. ATTN: Hada Flowers/IC 9000-0097, Taxpayer Identification Number Information.

Instructions: Please submit comments only and cite Information Collection 9000-0097, Taxpayer Identification Number Information, in all correspondence related to this collection. All comments received will be posted without change to http://www.regulations.gov, including any personal and/or business confidential information provided.

FOR FURTHER INFORMATION CONTACT: Mr. Curtis E. Glover, Sr., Procurement Analyst, Contract Policy Division, GSA, (202) 501-1448 or email at curtis.glover@gsa.gov.

SUPPLEMENTARY INFORMATION:

A. Purpose

In accordance with 31 U.S.C. 7701(c), a contractor doing business with a Government agency is required to furnish its Tax Identification Number (TIN) to that agency. 31 U.S.C. 3325(d) requires the Government to include, with each certified voucher prepared by the Government payment office and submitted to a disbursing official, the TIN of the contractor receiving payment under the voucher. 26 U.S.C. 6050M, as implemented in the Department of Treasury, Internal Revenue Service (IRS) regulations at Title 26 of the Code of Federal Regulations (CFR), requires heads of Federal executive agencies to report certain information to the IRS. 26 U.S.C. 6041 and 6041A, as implemented in 26 CFR, in part, requires payors, including Government agencies, to report to the IRS, on form 1099, payments made to certain contractors.

To comply with the requirements of 31 U.S.C. 7701(c) and 3325(d), reporting requirements of 26 U.S.C. 6041, 6041A, and 6050M, and implementing regulations issued by the IRS in 26 CFR, FAR clause 52.204-3, Taxpayer Identification, requires a potential Government contractor to submit, among other information, its TIN. The TIN may be used by the Government to collect and report on any delinquent amounts arising out of the contractor's relationship with the Government. A contractor is not required to provide its TIN on each contract in accordance with FAR clause 52.204-3, Taxpayer Identification, when FAR clause 52.204-7, Central Contractor Registration, is inserted in contracts. FAR clause 52.204-7 requires a potential Federal contractor to provide its TIN in the Central Contractor Registration (CCR) system.

B. Annual Reporting Burden

The annual reporting burden decreased from what was published in the Federal Register at 73 FR 20613, on April 16, 2008. The decrease is attributed to a revised estimate of the respondents and hours per response. A potential federal contractor is required to complete a one-time registration in CCR to provide basic information in order to be awarded a Federal Government contract. Part of a potential Federal contractor's CCR registration includes providing its TIN in accordance with FAR 52.204-7. It is estimated that a significant number of Federal contractors will not be required to submit their TIN under this collection at FAR 52.204-3, due to the requirement to submit their TIN during the registration process. Based on Federal procurement Data Systems (FPDS) data, 193,397 unique contractors were awarded Federal Government contracts in Fiscal Year 2011 (FY11). We estimate that fifteen percent of the FY11 unique vendors, responding on average to three solicitations per year, are required to provide their TIN in accordance with FAR 52.204-3. In addition, based on the TIN being readily available business information within contractor's system, the estimated hours per response is decreased to .10. The revised estimate of the annual reporting burden requirements is reflected below.

Respondents: 29,010.

Responses per Respondent: 3.

Total Responses: 87,030.

Hours per Response: .10.

Total Burden Hours: 8,703.

Obtaining Copies of Proposals: Requesters may obtain a copy of the information collection documents from the General Services Administration, Regulatory Secretariat (MVCB), 1275 First Street NE., Washington, DC 20417, telephone (202) 501-4755. Please cite OMB Control No. 9000-0097, Taxpayer Identification Number Information, in all correspondence.

Dated: March 20, 2013.
William Clark,
Acting Director, Federal Acquisition Policy Division, Office of Governmentwide Acquisition Policy, Office of Acquisition Policy, Office of Governmentwide Policy.

[FR Doc. 2013-06859 Filed 3-25-13; 8:45 am]

BILLING CODE 6820-EP-P